INTERNATIONAL TRADE COMMISSION

[Investigation No. 337-TA-686]

Certain Bulk Welding Wire Containers and Components Thereof and Welding Wire; Notice of Commission Determination Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 9) of the presiding administrative law judge (“ALJ”) granting complainant's motion to amend the complaint and notice of investigation.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 8, 2009, based on a complaint filed by The Lincoln Electric Company of Cleveland, Ohio and Lincoln Global, Inc. of City of Industry, California (collectively, “Lincoln”). 74 FR 46223 (Sept. 8, 2009). The complaint alleged violations of section 337 of the Tariff Act of 1930 (19 U.S.C. 1337) in the importation into the United States, the sale for importation, or the sale within the United States after importation of certain bulk welding wire containers and components thereof and welding wire by reason of infringement of certain claims of United States Patent Nos. 6,260,781; 6,648,141; 6,708,864; 6,913,145; 7,309,038; 7,398,881; and 7,410,111. Id. The complaint named five respondents: Atlantic China Welding Consumables, Inc., of Sichuan, China; ESAB AB, of Göteborg, Sweden (“ESAB AB”); Hyundai Welding Co., Ltd., of Seoul, Korea; Kiswel Co., Ltd. of Seoul, Korea; and Sidergas SpA, of Ambrogio (Verona) Italy. Id. at 46224.

On October 28, 2009, Lincoln filed an unopposed motion to amend the complaint and notice of investigation to remove ESAB AB from the investigation and add The ESAB Group, Inc. of Florence, South Carolina (“The ESAB Group”). Lincoln stated that ESAB AB has represented that it is not involved in the manufacture, importation into the United States, sale for importation, or sale with the United States after importation of bulk wire containers, components thereof and welding wire. Lincoln further stated that the entity responsible for the activities that form the basis of Lincoln's claim against ESAB AB is The ESAB Group, and that neither ESAB AB nor The ESAB Group oppose the motion.

On October 30, 2009, the ALJ issued Order No. 9 granting Lincoln's motion. None of the parties petitioned for review of Order No 9. The Commission has determined not to review the ID.

The authority for the Commission's determination is contained in section 337 of the Tariff Act of 1930, as amended (19 U.S.C. 1337), and in section 210.42(h) of the Commission's Rules of Practice and Procedure (19 CFR 210.42(h)).

Issued: November 19, 2009.
By order of the Commission.
Marilyn R. Abbott,
Secretary to the Commission.

[FR Doc. E9-28222 Filed 11-24-09; 8:45 am]

BILLING CODE 7020-02-P